DEPARTMENT OF TRANSPORTATION

Federal Aviation Administration

14 CFR Part 39

[Docket No. 2001-NM-256-AD; Amendment 39-12873; AD 2002-18-01]

RIN 2120-AA64

Airworthiness Directives; Airbus Model A320 and A321 Series Airplanes

AGENCY: Federal Aviation Administration, DOT.

ACTION: Final rule.

SUMMARY: This amendment adopts a new airworthiness directive (AD), applicable to certain Airbus Model A320 and A321 series airplanes, that requires an inspection to detect trapped water in the elevator sandwich structure, reprotection of the elevator, and corrective actions if necessary. This action is necessary to prevent damage caused by water ingress into the elevator, which could lead to debonding of the elevator skins and degradation of the initial protection, and consequent reduced structural integrity of the airplane. This action is intended to address the identified unsafe condition.

DATES: Effective October 10, 2002.

The incorporation by reference of certain publications listed in the regulations is approved by the Director of the Federal Register as of October 10, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A320 and A321 series airplanes was published in the Federal Register on February 22, 2002 (67 FR 8212). That action proposed to require an inspection to detect trapped water in the elevator sandwich structure, reprotection of the elevator, and corrective actions if necessary.

Comments

Interested persons have been afforded an opportunity to participate in the making of this amendment. Due consideration has been given to the comments received.

Request To Extend Compliance Time

One commenter requests that the proposed AD be revised to extend the compliance time threshold for the inspection from the proposed 18 months to 24 months. The commenter states that the proposed compliance time is not adequate to support a fleet campaign without operators requiring additional spare units at a cost of approximately $360,000 per set. The commenter estimates a total turnaround time for obtaining each elevator set at an average of 35 days. The commenter notes that the current requirements of the Maintenance Review Board Report (MRBR) for elevators are general visual inspections every 24 months and special detailed inspections every 60 months. The commenter concludes that a compliance time of 24 months would accommodate its fleet during scheduled maintenance visits without additional spares expense and would be within the safety guidelines of the MRBR.

The FAA does not agree with the commenter's request. In developing an appropriate compliance time for this AD, we considered not only the safety implications, but the manufacturer's recommendations, the French airworthiness authority's recommendations, the availability of spare parts, and the practical aspect of accomplishing the inspection within an interval of time that parallels normal scheduled maintenance for affected operators. In consideration of all of these factors, we have determined that the compliance time, as proposed, represents an appropriate interval in which the inspection can be accomplished in a timely manner within the fleet and still maintain an adequate level of safety. However, under the provisions of paragraph (c) of the final rule, we may approve requests for adjustments to the compliance time if data are submitted to substantiate that such an adjustment would provide an acceptable level of safety. No change to the final rule is necessary in this regard.

Request to Revise Cost Impact Estimate

One commenter states that the cost estimate presented in the preamble to the proposed AD is understated and does not include the cost of repairs for unit shop visits. The commenter also states the cost of these repairs would increase the per airplane estimate to approximately $75,000.

From this comment, we infer that the commenter is requesting that the cost impact estimate be revised. We do not agree. The economic analysis of the AD is limited only to the cost of actions actually required by the rule. It does not consider the costs of “on condition” actions, such as repairing a crack if one is detected during a required inspection (“repair, if necessary”). Such “on-condition” repairs actions would be required to be accomplished—regardless of AD direction—in order to correct an unsafe condition identified in an airplane and to ensure operation of that airplane in an airworthy condition, as required by the Federal Aviation Regulations. Therefore, no change to the final rule is necessary in the regard.

Conclusion

After careful review of the available data, including the comments noted above, the FAA has determined that air safety and the public interest require the adoption of the rule as proposed.

Cost Impact

The FAA estimates that 91 airplanes of U.S. registry will be affected by this AD, that it will take approximately 52 work hours per airplane to accomplish the required actions, and that the average labor rate is $60 per work hour. Based on these figures, the cost impact of the AD on U.S. operators is estimated to be $283,920, or $3,120 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-18-01 Airbus: Amendment 39-12873. Docket 2001-NM-256-AD.

Applicability: Model A320 and A321 series airplanes, certificated in any category; having elevator part and serial numbers listed in Airbus Service Bulletin A320-55-1024, dated January 13, 1999; excluding those modified per Airbus Modification 23558.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent damage caused by water ingress into the elevator, which could lead to debonding of the elevator skins and degradation of the initial protection and consequent reduced structural integrity of the airplane, accomplish the following:

Inspection and Follow-on/Corrective Actions

(a) Within 18 months after the effective date of this AD, or within 10 years after the date of manufacture of the airplane, whichever occurs later: Perform a thermographic inspection to detect trapped water in the elevator sandwich structure, in accordance with Airbus Service Bulletin A320-55-1024, dated January 13, 1999.

(1) If no water is detected: Before further flight, reprotect the elevator in accordance with the service bulletin.

(2) If any water is detected: Before further flight, evaluate the damage, perform applicable repair of any damaged area, and reprotect the elevator, in accordance with the service bulletin. If any damage is detected for which the service bulletin specifies to contact Airbus for appropriate action: Before further flight, repair in accordance with a method approved by either the Manager, International Branch, ANM-116, FAA, Transport Airplane Directorate; or the Direction Générale de l'Aviation Civile (or its delegated agent).

Note 2: Airbus Service Bulletin A320-55-1024 refers to Airbus Service Bulletin A320-55-1022, Revision 01, dated March 30, 2001, as an additional source of service information for enlarging the drainage holes in the elevator.

Spares

(b) As of the effective date of this AD, no person may install on any airplane an elevator having a part number and serial number listed in Airbus Service Bulletin A320-55-1024, dated January 13, 1999, unless the requirements of this AD have been accomplished on that elevator.

Alternative Methods of Compliance

(c) An alternative method of compliance or adjustment of the compliance time that provides an acceptable level of safety may be used if approved by the Manager, Manager, International Branch, ANM-116, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) Unless otherwise indicated in this AD, the actions shall be done in accordance with Airbus Service Bulletin A320-55-1024, dated January 13, 1999. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-062(B), dated February 21, 2001.

Effective Date

(f) This amendment becomes effective on October 10, 2002.

Issued in Renton, Washington, on August 26, 2002.
Vi L. Lipski,
Manager, Transport Airplane Directorate, Aircraft Certification Service.

[FR Doc. 02-22175 Filed 9-4-02; 8:45 am]

BILLING CODE 4910-13-P